ENVIRONMENTAL PROTECTION AGENCY

[PB-402404-IL-A; FRL-6399-4]

Lead-Based Paint Activities in Target Housing and Child-Occupied Facilities; State of Illinois Interim Approval of Lead-Based Paint Activities Program

AGENCY: Environmental Protection Agency (EPA).

ACTION: Notice; interim approval of the Illinois TSCA Section 402/404 Lead-Based Paint Accreditation and Certification Program.

SUMMARY: On April 16, 1999, the State of Illinois, through the Illinois Department of Public Health, completed an application for EPA approval to administer and enforce training and certification requirements, training program accreditation requirements, and work practice standards for lead-based paint activities in target housing and child-occupied facilities under section 402 of the Toxic Substances Control Act (TSCA). Illinois provided a self-certification letter stating that its program is at least as protective of human health and the environment as the Federal program and it has the legal authority and ability to implement the appropriate elements necessary to receive interim enforcement approval. In the Federal Register of September 1, 1999 (64 FR 47807) (FRL-6087-1), EPA published a notice announcing receipt of the State's application and requesting public comment and/or opportunity for a public hearing on the State's application. EPA did not receive any comments regarding any aspect of the Illinois program and/or application. Today's notice announces the approval of the Illinois application, and the authorization of the Illinois Department of Public Health's Lead-Based Paint Activities Program to apply in the State of Illinois, effective April 16, 1999, in lieu of the corresponding Federal program under section 402 of TSCA. This authorization provides interim approval for the compliance and enforcement program portion of Illinois' lead-based paint program. All elements for final compliance and enforcement program approval must be fully implemented no later than April 16, 2002.

DATES: Based upon the State's self-certification, Lead-Based Paint Activities Program authorization was granted to the State of Illinois effective on April 16, 1999. Interim approval for the compliance and enforcement portion of the program will expire on April 16, 2002.

FOR FURTHER INFORMATION CONTACT: Marlyse Wiebenga, Project Officer, Environmental Protection Agency, Region V, 77 W. Jackson Blvd., DT-8J, Chicago, IL 60604. Telephone: 312-886-4437; e-mail address: wiebenga.marlyse@epa.gov.

SUPPLEMENTARY INFORMATION:

I. General Information

A. Does this Action Apply to Me?

This action is directed to the public in general. This action may, however, be of interest to firms and individuals engaged in lead-based paint activities in Illinois. Since other entities may also be interested, the Agency has not attempted to describe all the specific entities that may be affected by this action. If you have any questions regarding the applicability of this action to a particular entity, consult the person listed under “FOR FURTHER INFORMATION CONTACT.”

B. How Can I Get Additional Information, Including Copies of this Document or Other Related Documents?

1. Electronically. You may obtain electronic copies of this document, and certain other related documents that might be available electronically, from the EPA Internet Home Page at http://www.epa.gov/. To access this document, on the Home Page select “Laws and Regulations” and then look up the entry for this document under the “Federal Register--Environmental Documents.” You can also go directly to the Federal Register listings at http://www.epa.gov/fedrgstr/.

2. In person. The Agency has established an official record for this action under docket control number PB-402404-IL. The official record consists of the documents specifically referenced in this action, this notice, the State of Illinois' authorization application, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection from 8 a.m. to 4:30 p.m., Monday through Friday, excluding legal holidays. The docket is located at the EPA Region V Office, Environmental Protection Agency, Waste, Pesticides and Toxics Division, Pesticides and Toxic Substances Branch, Toxic Programs Section, DT-8J, 77 West Jackson Blvd, Chicago, IL.

II. Background

On October 28, 1992, the Housing and Community Development Act of 1992, Public Law 102-550, became law. Title X of that statute was the Residential Lead-Based Paint Hazard Reduction Act of 1992. That Act amended TSCA (15 U.S.C. 2601 et seq.) by adding Title IV (15 U.S.C. 2681-92), entitled Lead Exposure Reduction. Section 402 of TSCA (15 U.S.C. 2682) authorizes and directs EPA to promulgate final regulations governing lead-based paint activities in target housing, public and commercial buildings, bridges and other structures. Under section 404 of TSCA, a State may seek authorization from EPA to administer and enforce its own lead-based paint activities program. On August 29, 1996 (61 FR 45777) (FRL-5389-9), EPA promulgated final TSCA section 402/404 regulations (40 CFR part 745) governing lead-based paint activities in target housing and child-occupied facilities. States and Tribes that choose to apply for program authorization must submit a complete application to the appropriate Regional EPA Office for review. To receive EPA approval, a State or Tribe must demonstrate that its program is at least as protective of human health and the environment as the Federal program, and provides for adequate enforcement (TSCA section 404(b), 15 U.S.C. 2684(b)). EPA's regulations (40 CFR part 745, subpart Q) provide the detailed requirements a State or Tribal program must meet in order to obtain EPA approval.

Under these regulations, regarding interim compliance and enforcement approval (40 CFR 745.327(a)(1)), a State must demonstrate that it has the legal authority and ability to immediately implement certain elements, including legal authority for accrediting training providers, certification of individuals, work practice standards and pre-renovation notification, authority to enter, and flexible remedies. In order to receive final approval, the State must be able to demonstrate that it is able to immediately implement the remaining performance elements, including training, compliance assistance, sampling techniques, tracking tips and complaints, targeting inspections, follow up to inspection reports, and compliance monitoring and enforcement.

EPA believes that the State of Illinois' audit privilege statute (415 Illinois Compiled Statutes 5/52.2), may impair the State's ability to fully administer and enforce its lead-based paint program. Interim compliance and enforcement approval will provide the State the opportunity to address problems and issues associated with the State's audit privilege law as well as the development and implementation of required performance elements under 40 CFR 745.327(c). EPA will work with the State during this interim approval period to remedy any deficiencies in its laws or implementation of the required performance elements. Interim approval of the compliance and enforcement program portion of the State's program may be granted only once. EPA's interim approval of the compliance and enforcement program portion of the State's program expires on April 16, 2002.

If Illinois does not meet the requirements for final approval of its compliance and enforcement program by April 16, 2002, EPA may be compelled to initiate the process to withdraw Illinois' interim authorization pursuant to 40 CFR 745.324(i). If Illinois has made modifications to its audit privilege law necessary to meet the minimum requirements of its federally authorized environmental programs, this law will no longer present a barrier to final approval of its lead-based paint activities program. In order to maintain authorization, all program and enforcement elements, including all reporting requirements, must be met pursuant to the terms identified in Illinois' application.

III. Federal Overfiling

Section 404(b) of TSCA makes it unlawful for any person to violate, or fail or refuse to comply with, any requirement of an approved State or Tribal program. Therefore, EPA reserves the right to exercise its enforcement authority under TSCA against a violation of, or a failure or refusal to comply with, any requirement of an authorized State or Tribal program.

IV. Withdrawal of Authorization

Pursuant to section 404(c) of TSCA, the EPA Administrator may withdraw a State or Tribal lead-based paint activities program authorization, after notice and opportunity for corrective action, if the program is not being administered or enforced in compliance with standards, regulations, and other requirements established under the authorization. The procedures EPA will follow for the withdrawal of an authorization are found at 40 CFR 745.324(i).

V. Submission to Congress and the General Accounting Office

The Congressional Review Act, 5 U.S.C. 801 et seq., as added by the Small Business Regulatory Enforcement Fairness Act of 1996, generally provides that before certain actions may take effect, the agency promulgating the action must submit a report, which includes a copy of the action, to each House of the Congress and to the Comptroller General of the United States. EPA will submit a report containing this action and other required information to the U.S. Senate, the U.S. House of Representatives, and the Comptroller General of the United States prior to publication of this document in the Federal Register. This action is not a “major rule” as defined by 5 U.S.C. 804(2).

List of Subjects

Environmental protection, Hazardous substances, Lead, Reporting and recordkeeping requirements.

Dated: February 4, 2000.
Francis X. Lyons
Regional Administrator, Region V.

[FR Doc. 00-4788 Filed 2-28-00; 8:45 am]

BILLING CODE 6560-50-F